NATIONAL CAPITAL PLANNING COMMISSION

District of Columbia Plans for the Reuse and Restoration of Kingman and Heritage Islands; Public Meeting and Intent To Prepare an Environmental Assessment

AGENCY: National Capital Planning Commission and the District of Columbia Department of Parks and Recreation.

ACTION: Notice of intent regarding proposed development by the District of Columbia for the reuse and restoration of Kingman and Heritage Islands. Legislation granting title of the Islands to the District of Columbia requires that any redevelopment of the Islands comply fully with the requirements of the National Environmental Policy Act (NEPA) of 1969. This notice indicates the intent to prepare an Environmental Assessment and scoping for the action pursuant to NEPA and the National Historic Preservation Act, section 106.

SUMMARY: Pursuant to section 102(2)(c) of the National Environmental Policy Act (NEPA) of 1969, as implemented by the Council on Environmental Quality (40 CFR Parts 1500-1508), and in accordance with the Environmental Policies and Procedures implemented by the National Capital Planning Commission (Commission), the Commission announces its intent, in conjunction with the District of Columbia Department of Parks and Recreation, as Joint Lead Agencies, to conduct one (1) public meeting to discuss the preparation of an Environmental Assessment (EA) for the proposed development, reuse, and restoration of Kingman and Heritage Islands located within and adjacent to the Anacostia River in the District of Columbia. The purpose of the public meeting is to determine the significant environmental issues related to the construction and operation of all proposed development planned by the District of Columbia Department of Parks and Recreation and share preliminary information on potential impacts, solicit community input, and determine potential development plans. The meeting will serve as part of the environmental scoping process for the preparation of the EA.

This Notice of Intent (NOI) initiates the formal environmental review process for this project that may proceed to the development of an Environment Impact Statement if it is determined that significant environmental impacts would occur from the planned action. The public is encouraged to submit written comments concerning alternatives for the planned development and on any potential impacts at this time. The Commission and the District of Columbia considers an EA to be the appropriate initial analysis to review the potential environmental effects of the District of Columbia Department of Parks and Recreation plans. Public scoping and comments will be considered in the development of this initial NEPA review. An Environmental Impact Statement may result from the development of the EA and this NOI and scoping will be considered part of the Environmental Impact Statement scoping should that analysis be necessary. The comments and responses received on the scope of the alternatives and potential impacts will be considered for both environmental documents, but additional public comment will be required in the Environmental Impact Statement if that document is developed.

Kingman and Heritage Islands are located within the Anacostia River. Kingman is the larger of the two islands and is bisected by the Benning Road Bridge. The portion of Kingman Island north of the Benning Bridge is developed as part of the Langston Golf Course. The southern portion of the island is undeveloped and contains minimal vegetation. Several stands of mature trees exist along the water's edge and the remainder of the site is covered with fill, ground cover, and groundcover vegetation. Heritage Island is located immediately west of the portion of Kingman Island that lies between the Benning Road and East Capitol Street Bridges. This island is also undeveloped and is similar to Kingman. The islands were created in 1916 by the U.S. Army Corps of Engineers as part of a reclamation project for improving the flow in the Anacostia River. The larger island contains approximately 40 acres and is just over a mile in length. The smaller island, Heritage Island, is approximately 6 acres.

The community and District of Columbia Office of Planning have identified three alternative scenarios for development. These include:

Option A—Landscape Enhancements and Passive Uses

Option A emphasizes minimal development and generally passive uses on both Kingman and Heritage Islands. The Islands would be used for walking or jogging around the Islands and explorations from the water via human-powered watercraft that can access the island from a boat tie-up point. Other low-intensity uses could also be considered including a modest monument or artistic installations, a boardwalk through the wetland in Kingman Lake, a children's playground or community maintained garden. No permanent structures are envisioned and no development would occur on Heritage Island.

The Islands would predominantly be accessed via the footbridges from the RFK Stadium parking lot. Security would be maintained by prohibiting use of the Islands after dusk, thus requiring fencing and some security lighting at the points of entry.

Option B—Moderate Usage of the Islands for Educational Purposes

Option B allows more interactive uses on the island while preserving and enhancing the majority of the island as a natural area. This option includes a full-scale environmental education center that could range in size from a one-room exhibit space to a two-story structure that includes a classroom and laboratory. This building could also accommodate a police sub-station to enhance security on the islands. A mix of trails will include both paved and unpaved routes around Kingman Island and a boardwalk through the Kingman Lake wetlands. A boat-tie up point will be created to allow access to the islands from the water. Bird observation towers will be constructed so as to blend in with the natural landscape. A playground will be provided for children and a camping area for overnight excursions will be established and maintained. This option may also include a monument or sculpture.

A variation on Option B would also incorporate a 3-hole youth golf facility in the extreme northern portion of the island. The environmental impacts of this option will be assessed both with and without the golf development.

Access to the islands would be permitted both from the footbridges and, because of the need for service deliveries, from the Benning Road access drive. Security would be maintained by closing the gates to the Island at dusk and providing an Urban Ranger to help patrol the islands. Security must be provided when campers are on the islands.

Option C—Active Use for Recreational Purposes

Option C focuses on the reuse of the Islands as a 9-hole, par 3 youth golf facility. This use would develop the upper portion of Kingman Island as a putting green and golf holes. The facility will be accessible from Langston Golf Course via an underpass under Benning Road on the east side of the Island. The development would also include a riverwalk along the edge of the golf course and extending down the length of the islands. A boat-tie up and bird observation towers will also be provided in this development plan. In addition, monuments and public art, camping facilities, and a playground could also be incorporated.

Security will be maintained by regular use and activity on the islands. In addition, the golf course will be well lit with the possibility of extending lighting along the major trails. It is anticipated that some form of private security might also be employed in conjunction with regular police patrols.

The EA will identify and analyze environmental impacts and mitigation options of the alternative plans including the No Action alternative. Topics for environmental analysis include short-term construction-related impacts; long-term changes in traffic, parking, socio-economic impacts, land use and physical/biological conditions within the project area; cultural (historic and archeological) in accordance with the Section 106 of the National Historic Preservation Act, and visual resource protection, site operation, and maintenance.

SUPPLEMENTARY INFORMATION: The environmental scoping process will include all written comments and one (1) public meeting for the purpose of determining significant issues related to the alternatives and to the potential impacts associated with the proposed development of Kingman and Heritage Islands. The public meeting will be held: Tuesday, December 12, 2000, 6 PM-9 PM at the St. Benedict the Moor Church, 320 21st Street, NE (21st & C Streets), Washington, D.C. 20002.

This public meeting will be advertised locally by the District of Columbia Department of Parks and Recreation and notice will appear in the District of Columbia Register. National Capital Planning Commission, District of Columbia Department of Parks and Recreation, and District of Columbia Office of Planning representatives will be available at this meeting to receive comments from the public regarding issues of concern. It is important that federal, regional and local agencies, and interested individuals and groups take this opportunity to identify environmental concerns that should be addressed during the preparation of the EA.

An Informational Packet will be available for review at the offices of the National Capital Planning Commission at 401 Ninth Street, NW, 5th Floor, Suite 500, North Lobby, and at the District of Columbia Office of Planning. Contact Karina Ricks, D.C. Office of Planning, 801 N. Capitol Street, NE, Washington, D.C. 20002, Phone: (202) 442-7600, fax: (202) 442-7637, email: karina.ricks@dc.gov. Agencies and the general public are invited and are encouraged to provide written comments on the scoping issues in addition to, or in lieu of, oral comments at the public meeting. To be most helpful, environmental scoping comments should clearly describe specific issues or topics that the community believes the EA should address.

DATES: All written statements regarding environmental review of the Proposed Kingman and Heritage Island development must be postmarked no later than January 12, 2001, to the following address: National Capital Planning Commission, 401 Ninth Street, NW, 5th Floor, Suite 500, North Lobby, Washington, D.C. 20576, Attention: Mr. Eugene Keller, Environmental Review Officer.

FOR FURTHER INFORMATION PLEASE CONTACT: National Capital Planning Commission, Mr. Eugene Keller, Environmental Review Officer, 401 Ninth Street, NW, 5th Floor, Suite 500, North Lobby, Washington, D.C. 20576, Phone: (202) 482-7270 or Karina Ricks, DC Office of Planning, 801 N. Capitol Street, NE, Washington, D.C. 20002, Phone: (202) 442-7600.

Dated: November 8, 2000.
Ash Jain,
General Counsel and Congressional Liaison, National Capital Planning Commission.

[FR Doc. 00-29532 Filed 11-16-00; 8:45 am]

BILLING CODE 7520-01-U